DEPARTMENT OF HEALTH AND HUMAN SERVICES

Centers for Disease Control and Prevention

Disease, Disability, and Injury Prevention and Control Special Emphasis Panel (SEP): Epidemiological Studies of Epilepsy, Potential Extramural Project 2007-R-05

Correction: This notice was published in the Federal Register on April 9, 2007, Volume 72, Number 67, page 17555. The meeting was originally scheduled as a teleconference. In lieu of a teleconference, the SEP will now convene at the Doubletree Hotel, 3342 Peachtree Road, NE., Atlanta, GA 30326.

Date and Time: 8:30 a.m.-3 p.m., May 10, 2007.

Contact Person for More Information: Juliana Cyril, M.P.H., PhD, Associate Director for Policy and Peer Review, CDC, 1600 Clifton Road, NE., Mailstop D-72, Atlanta, GA 30333, Telephone (404) 639-3098.

The Director, Management Analysis and Services Office, has been delegated the authority to sign Federal Register notices pertaining to announcements of meetings and other committee management activities, for both CDC and the Agency for Toxic Substances and Disease Registry.

Dated: April 25, 2007.
Elaine L. Baker,
Acting Director, Management Analysis and Services Office, Centers for Disease Control and Prevention.

[FR Doc. E7-8248 Filed 4-27-07; 8:45 am]

BILLING CODE 4163-18-P